DEPARTMENT OF COMMERCE

Foreign-Trade Zones Board

[B-75-2014]

Foreign-Trade Zone (FTZ) 119—Minneapolis, Minnesota; Notification of Proposed Production Activity; MAT Industries, LLC; (Air Compressors and Pressure Washers); Springfield, Minnesota

MAT Industries, LLC (MAT), an operator of FTZ 119, submitted a notification of proposed production activity to the FTZ Board for its facility located in Springfield, Minnesota. The notification conforming to the requirements of the regulations of the FTZ Board (15 CFR 400.22) was received on October 14, 2014.

The MAT facility is located at 118 West Rock Street, Springfield, Minnesota. A separate application for subzone designation at the MAT facility has been submitted and will be processed under Section 400.25 of the FTZ Board's regulations. The facility is used for the production of air compressors, air compressor tanks, and pressure washers. Pursuant to 15 CFR 400.14(b), FTZ authority would be limited to the specific foreign-status components and specific finished products described in the submitted notification (as described below) and subsequently authorized by the FTZ Board.

Production under FTZ procedures could exempt MAT from customs duty payments on the foreign status components used in export production. On its domestic sales, MAT would be able to choose the duty rate during customs entry procedures that applies to air compressors, air compressor tanks, and pressure washers (free) for the foreign status components noted below. Customs duties also could possibly be deferred or reduced on foreign status production equipment.

The components sourced from abroad include: Rubber gaskets; cardboard boxes; paper cards/manuals/labels; cloth bags; plastic tubes; ceramic nozzles; cast iron fittings/washers; zinc connectors; brass nut sleeves; copper nuts; nickel fittings; aluminum couplers; engines; air filters; spray guns; pressure switches; body/check valves; regulators; bearing carriers; AC motors; capacitors; thermal overload wires; power cords and accessories; pressure gauges; stainless steel reducers/bushings/plugs/nipples; non-alloy steel weld flanges; cast iron nipples/bushings/reducers/plugs; copper washers/flywheels; brass fittings/reducers; compressor parts; barrel screws; hydraulic assemblies; filter regulators and assemblies; valve assemblies; relief valves; pulleys; flywheels; cylinder heads and plates; steel bushings/valves; iron/steel assemblies; inflators; PVC air hoses; plastic clamshells/handles/hubcaps/V-belts; rubber wheels; sandblasters; carry tanks; nailers; air drills; grinding stone sets; tool display bars; electrical pumps; pistons; impact sockets; chisel sets; ball bearings; crankshafts; sanders; and, pneumatic needle scalers (duty rate ranges from free to 6.5%).

Public comment is invited from interested parties. Submissions shall be addressed to the FTZ Board's Executive Secretary at the address below. The closing period for their receipt is December 8, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov (202) 482-1378.

Dated: October 20, 2014.
Andrew McGilvray,
Executive Secretary.

[FR Doc. 2014-25633 Filed 10-27-14; 8:45 am]

BILLING CODE 3510-DS-P